COMMITTEE FOR PURCHASE FROM PEOPLE WHO ARE BLIND OR SEVERELY DISABLED

Procurement List; Proposed Deletions

ACTION: Proposed Deletions from the Procurement List.

SUMMARY: The Committee is proposing to delete from the Procurement List products previously furnished by nonprofit agencies employing persons who are blind or have other severe disabilities.

Comments Must Be Received on or Before: December 16, 2007.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION: This notice is published pursuant to 41 U.S.C. 47(a)(2) and 41 CFR 51-2.3. Its purpose is to provide interested persons an opportunity to submit comments on the proposed actions.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

Comments on this certification are invited. Commenters should identify the statement(s) underlying the certification on which they are providing additional information.

End of Certification

The following products are proposed for deletion from the Procurement List:

Products

Enamel

NSN: 8010-01-336-5062.

NSN: 8010-01-348-3060.

NPA: Lighthouse for the Blind, St. Louis, MO.

Contracting Activity: General Services Administration, Heartland Global Supply, Kansas City, MO.

Pen, Cushion Grip, Transparent (Alpha Grip)

NSN: 7520-01-446-4851—Purple Ink, Fine Point.

NSN: 7520-01-446-4852—Purple Ink, Medium Point.

Pen, Gel

NSN: 7520-01-484-5257—Purple, Medium.

Pen, Non-retractable, Gel Ink, “Alpha Elite”

NSN: 7520-01-500-5216—Purple.

NPA: Alphapointe Association for the Blind, Kansas City, MO.

Contracting Activity: General Services Administration, Office Supplies & Paper Products Acquisition Center, New York, NY.

Kimberly M. Zeich,
Director, Program Operations.

[FR Doc. E7-22458 Filed 11-15-07; 8:45 am]

BILLING CODE 6353-01-P